DEPARTMENT OF THE INTERIOR

Bureau of Land Management

[NV-020-5870-EU; N-66141]

Notice of Realty Action: Direct (Non-Competitive) Sale of Public Land and Opening Order; Humboldt County, NV

AGENCY: Bureau of Land Management, Interior.

ACTION: Notice of realty action.

SUMMARY: One parcel of public land (Parcel N-66141) located southwest of Winnemucca, Nevada, and totaling 177.31 acres, has been examined and found suitable for disposal utilizing direct sale procedures. The authority for the sale is found under Sections 203 and 209 of the Federal Land Policy and Management Act of 1976 (FLPMA) (Pub. L. 94-579), 43 U.S.C. 1713, 1719.

DATES: Comments regarding the proposed sale must be received by the Bureau of Land Management (BLM) on or before August 27, 2007.

ADDRESSES: Comments regarding the proposed sale should be addressed to Field Manager, BLM, Winnemucca Field Office, 5100 East Winnemucca Blvd., Winnemucca, Nevada 89445.

FOR FURTHER INFORMATION CONTACT: Information regarding the proposed sale can be obtained at the public reception desk at the BLM, Winnemucca Field Office, from 7:30 a.m. to 4:30 p.m., Monday through Friday (except Federal holidays), or by contacting Barbara Kehrberg, Realty Specialist, at the above address, or at (775) 623-1500, or by e-mail bkehrberg@nv.blm.gov. For general information on the BLM's public land sale procedures, refer to the following Web address: http://www.blm.gov/nhp/what/lands/realtysales.htm.

SUPPLEMENTARY INFORMATION: Parcel N-66141 is located approximately 6 miles west of the city of Winnemucca, Nevada, west of Airport Road, south of and adjacent to the Union Pacific Railroad tracks, and is described as follows:

Mount Diablo Meridian

T. 35 N., R. 37 E.

Sec. 16, lots 3, 8, 10, 11, 15, 16, and 17.

The area described contains 177.31 acres, more or less, in Humboldt County.

This parcel of public land is proposed for sale to the City of Winnemucca, Nevada, at no less than the appraised fair market value (FMV) of $210,000.00, as determined by the authorized officer. An appraisal report has been prepared by a State-certified appraiser for the purposes of establishing the FMV.

Consistent with Section 203 of FLPMA, a tract of the public land may be sold where, as a result of approved land use planning, the sale of the tract meets the disposal criteria of that section. The lands described above are identified as suitable for disposal in the BLM Sonoma-Gerlach Management Framework Plan (MFP) signed July 9, 1982, and in the BLM Paradise-Denio and Sonoma-Gerlach Management Framework Plan Lands Amendment (Amendment), signed January 1999. The proposed disposal action is consistent with the objectives, goals, and decisions of the MFP and Amendment. MFP objective and decision L2.2 provides that the Winnemucca Field Office should dispose of this property to local governmental entities as identified by a local government, consistent with community plans.

This sale also meets the criteria found in 43 CFR 2710.0-3(a)(2), which states: “Disposal of such tract shall serve important public objectives, including but not limited to, expansion of communities and economic development, which cannot be achieved prudently or feasibly on lands other than public lands and which outweigh other public objectives and values, including, but not limited to, recreation and scenic values, which would be served by maintaining such tract in Federal ownership.” The City of Winnemucca needs these lands to provide rail transportation to the City-developed industrial park and for proposed airport expansion.

The disposal (sale) of Parcel N-66141 also meets the criteria found under 43 CFR 2710.0-3(a)(3), which authorizes disposal where “such tract, because of its location or other characteristics is difficult and uneconomic to manage as part of the public lands”. The lands are isolated, surrounded by private lands, or intermingled with private lands as to make them difficult to manage for any Federal purpose. Parcel N-66141 is bordered on the north by the Union Pacific Railroad, on the east and south by city-owned property, and on the west by private property. There is no existing legal access to the subject lands.

Regulation 43 CFR 2711.3-3(a), provides that “direct sales (without competition) may be utilized, when in the opinion of the authorized officer, a competitive sale is not appropriate and the public interest would best be served by a direct sale. Examples include, but are not limited to: (1) A tract identified for transfer to State or local government.” As noted above, these lands were identified in the MFP as to be disposed of to only a local governmental entity.

The BLM prepared a preliminary Environmental Assessment (EA) and provided a 30-day comment period. All comments received have been considered and incorporated into the EA and Decision Record. The EA Number NV-020-06-EA-08, Decision Record, Environmental Site Assessment, map, and approved appraisal report covering the proposed sale are available for review at the BLM, Winnemucca Field Office, in Winnemucca, Nevada, at the address listed above.

Termination of Exchange Segregation

Lands described in this Notice were previously segregated under Exchange file N-80983, but a decision has been made not to proceed with this exchange. This Notice officially terminates that Exchange Segregation of the described lands. Pursuant to 43 CFR 2201.1-2(c) (2), this Notice will also serve as an opening order to restore the above described lands to operation of the sale provisions of sections 203 and 209 of the FLPMA, 43 U.S.C. 1713, 1719, and not the general mining laws, as of 7:30 a.m. on July 13, 2007.

Sales Segregation

Publication of this Notice in the Federal Register segregates the subject land from all forms of appropriations under the public land laws, including the general mining laws, except sale under the Sections 203 and 209 of FLPMA. The segregation will terminate upon issuance of the patent, upon publication in the Federal Register of a termination of the segregation, on July 13, 2009, whichever occurs first.

Terms and Conditions of Sale

The patent issued would contain the following numbered reservations, covenants, terms and conditions:

1. A right-of-way thereon for ditches or canals constructed by the authority of the United States, Act of August 30, 1890 (43 U.S.C. 945).

2. Oil, gas, and geothermal resources are reserved from the land sold; permittees, licensees, and lessees retain the right to prospect for, mine, and remove the minerals owned by the United States under applicable law and any regulations that the Secretary of the Interior may prescribe, including all necessary access and exit rights.

3. All valid existing rights.

4. A right-of-way authorized under the Act of March 4, 1911, 36 Stat. 1253, (43 U.S.C. 961), for an aerial transmission line granted to Sierra Pacific Power Company, its successor or assignees, by right-of-way NEV-042767, for Parcel N-66141.

5. A right-of-way authorized under Title V of FLPMA, (43 U.S.C. 1761), for an aerial transmission line granted to Sierra Pacific Power Company, its successor or assignees, by right-of-way NVN-041642, for Parcel N-66141.

6. The patentee, by accepting patent, agrees to indemnify, defend, and hold the United States harmless from any costs, damages, claims, causes of action, penalties, fines, liabilities, and judgments of any kind arising from the past, present, or future acts or omissions of the patentee, its employees, agents, contractors, lessees, or any third-party arising out of or in connection with the patentee's use, occupancy, or operations on the patented real property resulting in: (1) Violations of Federal, State, and local laws and regulations that are now, or in the future become, applicable to the real property; (2) Judgments, claims, or demands of any kind assessed against the United States; (3) Costs, expenses, or damages of any kind incurred by the United States; (4) Releases or threatened releases of solid or hazardous waste(s) and/or hazardous substance(s), pollutant(s) or containment(s), and/or petroleum product or derivative of a petroleum product, as defined by Federal and State environmental laws, off, on, into, or under land, property, and other interests of the United States; (5) Other activities by which solid or hazardous substance(s), pollutant(s) or contaminant(s), and/or petroleum product or derivative of a petroleum product, or waste(s), as defined by Federal and State environmental laws, are generated, released, stored, used, or otherwise disposed of on the patented real property, and any cleanup response, remedial action, or other actions related in any manner to said solid or hazardous substance(s) or waste(s), pollutant(s) or contaminant(s), and/or petroleum product or derivative of a petroleum product; or (6) natural resource damages as defined by Federal and State law. This covenant shall be construed as running with the patented real property and may be enforced by the United States in a court of competent jurisdiction.

7. Pursuant to the requirements established by section 120(h) of the Comprehensive Environmental Response, Compensation and Liability Act (CERCLA), (43 U.S.C. 9620(h)), as amended by the Superfund Amendments and Reauthorization Act of 1988, (100 Stat. 1670), notice is hereby given that the above-described lands have been examined and no evidence was found to indicate that any hazardous substances have been stored for one year or more, nor have any hazardous substances been disposed of or released on the subject property.

No warranty of any kind, expressed or implied, is given by the United States as to the title, physical condition, or potential uses of the parcel of land proposed for sale, and the conveyance of any such parcel will not be on a contingency basis. It is the buyer's responsibility to be aware of all applicable Federal, State, and local government policies and regulations that would affect the subject lands. It is also the buyer's responsibility to be aware of existing or prospective uses of nearby properties. Any land lacking access from a public road or highway will be conveyed as such, and future access acquisition will be the responsibility of the buyer.

In the event of a sale, the unreserved mineral interests will be conveyed simultaneously with the sale of the land. These unreserved mineral interests have been determined to have no known mineral value pursuant to 43 CFR 2720.0-6 and 2720.2(a). Acceptance of the sale offer will constitute an application for conveyance of those unreserved mineral interests. The purchaser will be required to pay a $50.00 non-refundable filing fee for conveyance of mineral interests, and for payment of publication costs. The purchaser must remit the remainder of the purchase price within 180 days from the date the sale offer is received. Payments must be by certified check, postal money order, bank draft, or cashiers check payable to the U.S. Department of the Interior—BLM. Failure to meet conditions established for this sale will void the sale and any monies received will be forfeited.

Public Comments

The subject parcel of land will not be offered for sale prior to the 60-day publication of this Notice of Realty Action. For a period until August 27, 2007, interested persons may submit written comments to the BLM Winnemucca Field Office at the address listed above. Facsimiles, telephone calls, and e-mails are unacceptable means of notification.

Before including your address, phone number, e-mail address, or other personal identifying information in your comment, you should be aware that your entire comment, including your personal identifying information, may be made publicly available at any time. While you can ask us in your comment to withhold your personal identifying information from public review, we cannot guarantee that we will be able to do so.

Any adverse comments will be reviewed by the Nevada State Director, who may sustain, vacate, or modify this realty action and issue a final determination.

(Authority: 43 CFR 2711.1-2(a))

Rodger T. Bryan,
Acting Field Manager, Winnemucca.

[FR Doc. E7-13679 Filed 7-12-07; 8:45 am]

BILLING CODE 4310-HC-P